DEPARTMENT OF THE INTERIOR

Bureau of Land Management

[LLNM004000 L71220000-EU000; LVTFG14G4440]

Notice of Realty Action: Direct Sale of Public Land, Oklahoma County, OK

AGENCY: Bureau of Land Management, Interior.

ACTION: Notice of realty action.

SUMMARY: The Bureau of Land Management (BLM) is offering to sell a parcel of public land totaling 2.78 acres as a non-competitive direct sale at not less than the appraised fair market value (FMV) of $175,000, to the City of Oklahoma City. The sale is pursuant to Section 203 of the Federal Land Policy and Management Act of 1976 (FLPMA), and BLM regulations. In accordance with BLM regulations, the BLM authorized officer finds that the public interest would be best served by resolving the inadvertent unauthorized use of public lands by the City of Oklahoma City whose improvements occupy portions of the parcel in question through a direct sale to the City. Such a sale would also protect existing equities in the current use of the land.

DATES: Submit written comments to the BLM at the address below. The BLM must receive comments on or before November 10, 2014.

ADDRESSES: Bureau of Land Management, Field Manager, Oklahoma Field Office, 7906 E. 33rd Street, Suite 101, Tulsa, OK 74145.

FOR FURTHER INFORMATION CONTACT: Richard Fields, Assistant Field Manager, 918-621-4128 or email at Richard_Fields@blm.gov. Persons who use a telecommunications devise for the deaf (TDD) may call the Federal Information Relay Service (FIRS) at 1-800-877-8339 to contact Mr. Fields during business hours. The FIRS is availiable 24 hour a day, 7 days a week, to leave a message or questions for Mr. Fields. You will receive a reply during normal business hours.

SUPPLEMENTARY INFORMATION: The BLM will conduct a direct sale for the following parcel of public land located at 3501 SW 15th Street, Oklahoma City, Oklahoma. The land is described as:

Indian Meridian, Oklahoma

T. 11 N., R. 4 W.,

Sec. 12, lot 8.

The area described contains 2.78 acres.

The parcel is a single triangular-shaped tract and is fully surrounded by private and city-owned land. The property has improvements such as a city street and a parking lot and landscaping to support the adjacent Dell Campus.

Upon publication of this Notice in the Federal Register, the described land will be segregated from all forms of appropriation under the public land laws, including the mining laws, except for the sale provisions of FLPMA. Upon publication of this Notice and until completion of the sale, the BLM will no longer accept land use applications affecting the identified public lands, except applications for the amendment of previously filed right-of-way applications or existing authorizations to increase the term of the grants in accordance with 43 CFR 2807.15 and 2886.15. The land would not be sold until at least November 24, 2014. The segregation will terminate upon issuance of a patent, publication in the Federal Register of a termination of the segregation, or September 26, 2016, unless it is extended by the BLM State Director, in accordance with 43 CFR 2711.1-2(d) prior to the termination date.

The authority for the sale of public lands is found in Section 203 of FLPMA (43 U.S.C. 1713) and regulation 43 CFR 2710. In accordance with 43 CFR 2710.0-6(3)(iii) and 43 CFR 2711.3-3(5), the BLM authorized officer finds that a direct sale would be appropriate here because it would best serve the public interest by resolving the inadvertent unauthorized use of those lands by the City of Oklahoma City. A direct sale would also be consistent with the adjoining ownership pattern.

The parcel is not needed for any other Federal purpose, and it has been determined that the proposed action conforms to the 1994 BLM Oklahoma Resource Management Plan (RMP), goals, objectives, and management actions. The RMP provides for disposal to resolve longstanding instances of unauthorized use or occupancy through land sale if the disposal criteria are met. The parcel of land is difficult and uneconomic to manage as part of the public lands and meets the criteria for disposal from Federal ownership. The City of Oklahoma City occupied the proposed land and constructed a road and a landfill. According to soil-boring tests, the landfill did accept some trash at the site. The landfill activities took place between 1950 and the late 1970s. The site has since been remediated and redeveloped for other purposes by the City.

Federal law requires purchasers to be citizens of the United States; 18 years of age or older; and, in the case of corporations, to be subject to the laws of any State or of the United States; a State, State instrumentality or political subdivision authorized to hold property or an entity legally capable of conveying and holding lands or interest therein under the laws of the State of Oklahoma. The purchaser will be given 30 days from receipt of a written offer to submit a deposit of 30 percent of the FMV appraisal of the parcel and 180 days thereafter to submit the remainder of the full purchase price. Payment must be in the form of a certified check, postal money order, bank draft, or cashier's check made payable in U.S. dollars to the order of the U.S. Department of the Interior—BLM. The BLM will not accept any personal or business checks. Failure to meet conditions of this direct sale will void the sale and any funds received will be forfeited. If the balance of the purchase price is not received within the 180 days, the deposit shall be forfeited to the United States and the parcel withdrawn from sale.

The parcel is subject to limitations prescribed by law and regulation, and certain encumbrances in favor of third parties. Prior to patent issuance, a holder of any right-of-way within the sale parcels will be given the opportunity to amend the right-of-way for conversion to a new term, including perpetuity, if applicable, or conversion to an easement. The BLM will notify valid existing right-of-way holders of record of their ability to convert their compliant rights-of-way to perpetual rights-of-way or easement. In accordance with Federal regulations at 43 CFR 2807.15, once notified, each valid holder may apply for the conversion of their current authorization.

The patent, if issued, would be subject to the following terms and conditions, and reservations:

1. A reservation of a right-of-way for ditches and canals constructed by authority of the United States under of the Act of August 30, 1890, (43 U.S.C. 945);

2. A reservation of all minerals deposits in the land so patented, and to it, or persons authorized by it, the right to prospect for, mine, and remove such deposits from the same under applicable law and such regulations as the Secretary of the Interior may prescribe are reserved to the United States, together with all necessary access and exit rights;

3. The parcels are subject to valid existing rights; and

4. An appropriate indemnification clause protecting the United States from claims arising out of the lessees/patentee's use, occupancy, or occupation on the leased/patented lands.

Information concerning the sale, encumbrances of record, appraisals, reservations, procedures and conditions, and other environmental documents that may appear in the BLM public files for the proposed sale parcels are available for review during business hours, Monday through Friday, at the BLM Oklahoma Field Office, except during Federal holidays.

Comments received in electronic form, such as email or facsimile, will not be considered. Submit comments to the address in the ADDRESSES section. Before including your address, phone number, email address, or other personal identifying information in your comment, you should be aware that your entire comment—including your personal identifying information— may be made publicly available at any time. While you can ask us in your comment to withhold your personal identifying information from public review, we cannot guarantee that we will be able to do so.

Any adverse comments regarding the proposed sale will be reviewed by the BLM State Director or other authorized official of the Department of the Interior, who may sustain, vacate, or modify this realty action in whole or in part. In the absence of timely filed objections, this realty action will become the final determination of the Department of the Interior.

Authority: 43 CFR 2711.1-2(a)(c).

Mary A. Uhl,
Acting Deputy State Director, Lands and Resources.

[FR Doc. 2014-22723 Filed 9-23-14; 8:45 am]

BILLING CODE 4310-FB-P